DEPARTMENT OF LABOR

Employment and Training Administration

[TA-W-51,771]

Thompson-Hancok Technologies, Burlington, NC; Notice of Termination of Investigation

Pursuant to section 221 of the Trade Act of 1974, an investigation was initiated on May 15, 2003 in response to a worker petition which was filed by a company official on behalf of workers at Thompson-Hancock Technologies, Burlington, North Carolina.

The petitioner has requested that the petition be withdrawn. Consequently, the investigation has been terminated.

Signed in Washington, DC this 16th day of June, 2003.
Richard Church,
Certifying Officer, Division of Trade Adjustment Assistance.

[FR Doc. 03-17453 Filed 7-9-03; 8:45 am]

BILLING CODE 4510-30-P